DEPARTMENT OF AGRICULTURE

Forest Service

Francis Marion Sumter National Forests Resource Advisory Committee

AGENCY: Forest Service, USDA.

ACTION: Notice of meeting.

SUMMARY: The Francis Marion Sumter Resource Advisory Committee will meet in Columbia, SC. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 6, 2012 and will begin at 9:30 a.m.

ADDRESSES: The meeting will be held at the Forest Service office, Large Conference Room, 4931 Broad River Road, Columbia, SC 29212.

Written comments may be submitted as described under Supplementary Information. All comments, including names and addresses when provided, are placed in the record and are available for public inspection and copying. The public may inspect comments received at Francis Marion Sumter National Forests, 4931 Broad River Road, Columbia, SC 29212. Please call ahead to 803-561-4058 to facilitate entry into the building to view comments.

FOR FURTHER INFORMATION CONTACT: Mary Morrison, RAC coordinator, USDA, Francis Marion Sumter National Forests, 4931 Broad River Road, Columbia, SC 29212; (803) 561-4058; Email mwmorrison@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Introductions of all committee members, replacement members and Forest Service personnel; (2) Receive materials explaining the process for considering and recommending Title II projects; (3) Review and recommend funding for Title II proposals; and (4) Public Comment. Additonal meeting information is available at http://www.fs.usda.gov/scnfs/under the link Working Together. Anyone who would like to bring related matters to the attention of the committee may file written statements with the committee staff before or after the meeting. The agenda will include time for people to make oral statements of three minutes or less. Individuals wishing to make an oral statement should request in writing by September 3, 2012 to be scheduled on the agenda. Written comments and requests for time for oral comments must be sent to Mary Morrison, RAC coordinator, USDA, Francis Marion Sumter National Forests, 4931Broad River Road, Columbia, SC 29212, or by email to mwmorrison@fs.fed.us or via facsimile to (803) 561-4004. A summary of the meeting will be posted at http://www.fs.usda.gov/main/scnfs/workingtogether/advisorycommittees within 21 days of the meeting.

Meeting Accommodations: If you are a person requiring resonable accomodation, please make requests in advance for sign language interpreting, assistive listening devices or other reasonable accomodation for access to the facility or procedings by contacting the person listed under For Further Information Contact. All reasonable accommodation requests are managed on a case by case basis.

Dated: August 1, 2012.
Paul L. Bradley,
Designated Federal Officer, Francis Marion Sumter Resource Advisory Committee.

[FR Doc. 2012-19391 Filed 8-7-12; 8:45 am]

BILLING CODE 3410-11-P